DEPARTMENT OF HEALTH AND HUMAN SERVICES

Administration for Children and Families

Office of Community Services; Community Food and Nutrition Program

Funding Opportunity Title: Community Food and Nutrition Program.

Announcement Type: Initial.

Funding Opportunity Number: HHS-2005-ACF-OCS-EN-0018.

CFDA Number: 93.571.

Due Date for Applications: Application is due July 21, 2005.

Executive Summary:

Authority: The Community Services Block Grant Act (the Act), as amended, authorizes the Secretary of Health and Human Services to make funds available under several programs to support program activities that will result in direct benefits targeted to low-income people. This program announcement covers the grant authority found at Section 681 of the Act, (Pub. L. 97-35), as amended by the Community Opportunities, Accountability, and Training and Educational Services Act of 1998 (Pub. L. 105-285). The Act authorizes the Secretary to award grants on a competitive basis to eligible agencies for community-based, local, statewide, and national programs (1) to coordinate private and public food assistance resources, wherever the grant recipient involved determines such coordination to be inadequate, to better serve low-income populations; (2) to assist low-income communities to identify potential sponsors of child nutrition programs and to initiate such programs in underserved or unserved areas; and (3) to develop innovative approaches at the State and local level to meet the nutrition needs of low-income individuals.

Purpose: The Administration for Children and Families, Office of Community Services (OCS), invites eligible agencies to submit competitive grant applications for the award of one cooperative agreement to support the Community Food and Nutrition Program's (CFNP) Nationwide Initiative: Youth Obesity, An American Crisis.

The problem of overweight children and adolescents is an American crisis. The Surgeon General reports that:

• In 2001-2002, 16 percent of children aged 6 to 19 years in the United States were overweight, and 31 percent were at risk for being overweight. This prevalence has nearly tripled for adolescents in the past 2 decades.

• Risk factors for heart disease, such as high cholesterol and high blood pressure, occur with increased frequency in overweight children and adolescents compared to children with a healthy weight.

• Type 2 diabetes, previously considered an adult disease, has increased dramatically in children and adolescents. Overweightness and obesity are closely linked to Type 2 diabetes.

• Overweight adolescents have a 70 percent chance of becoming overweight or obese adults.

• The most immediate consequence of being overweight, as perceived by the children themselves, is social discrimination. This is associated with poor self-esteem and depression.

Recently, Federal and State governments, industry, schools, and numerous organizations nationwide have taken comprehensive and ambitious actions to reverse the rapid rise in obesity among children and youth. In 2005, the Department of Health and Human Services, in collaboration with the U.S. Department of Agriculture, released “Dietary Guidelines for Americans 2005” (DGAs). The DGAs establish Federal nutrition standards for food and nutrition programs, including nutrition assistance programs.

ACF/OCS is seeking assistance, through a cooperative agreement, to identify, complement, coordinate, and promote the numerous youth-obesity programs nationwide. The goal will be to identify and compile data on youth obesity, specifically focusing on the prevalence of youth obesity throughout rural, urban, and suburban locations nationwide. Socioeconomic factors, demographics, income level and percentage of youth obesity in low-income households will be assessed. This information will be utilized to recommend intervention as warranted. The cooperative agreement will require active partnership between ACF/OCS and the successful applicant.

I. Funding Opportunity Description

1. Purpose, Scope, Focus

The Administration for Children and Families, Office of Community Services (OCS), invites eligible agencies to submit competitive grant applications for the award of one cooperative agreement to support the Community Food and Nutrition Program's (CFNP) Nationwide Initiative: Youth Obesity, An American Crisis.

The problem of overweight children and adolescents is an American crisis. The Surgeon General reports that:

• In 2001-2002, 16 percent of children aged 6 to 19 years in the United States were overweight, and 31 percent were at risk for being overweight. This prevalence has nearly tripled for adolescents in the past 2 decades.

• Risk factors for heart disease, such as high cholesterol and high blood pressure, occur with increased frequency in overweight children and adolescents compared to children with a healthy weight.

• Type 2 diabetes, previously considered an adult disease, has increased dramatically in children and adolescents. Overweightness and obesity are closely linked to Type 2 diabetes.

• Overweight adolescents have a 70 percent chance of becoming overweight or obese adults. As overweight or obese adults, they are at risk for a number of health problems including heart disease, type 2 diabetes, high blood pressure, and some forms of cancer.

• The most immediate consequence of being overweight, as perceived by the children themselves, is social discrimination. This is associated with poor self-esteem and depression.

Recently, Federal and State governments, industry, schools, and numerous organizations nationwide have taken comprehensive and ambitious actions to reverse the rapid rise in obesity among children and youth. In 2005, the Department of Health and Human Services, in collaboration with the U.S. Department of Agriculture, released “Dietary Guidelines for Americans 2005” (DGAs). The DGAs establish Federal nutrition standards for food and nutrition programs, including nutrition assistance programs. The Federal Government makes available health and obesity prevention grants and a major health insurance company now offers obesity prevention benefits.

ACF/OCS is seeking assistance, through a cooperative agreement, to identify, complement, coordinate, and promote the numerous youth obesity programs nationwide. The goal will be to identify and compile data on youth obesity, specifically focusing on the prevalence of youth obesity throughout rural, urban, and suburban locations nationwide. Socioeconomic factors, demographics, income level, and percentage of youth obesity in low-income households will be assessed. This information will be utilized to recommend intervention as warranted. The cooperative agreement will require active partnership between ACF/OCS and the successful applicant.

2. Authority

The Community Services Block Grant (CSBG) Act (the Act) (Pub.L. 97-35), as amended, authorizes the Secretary of Health and Human Services to make funds available under several programs to support program activities that will result in direct benefits targeted to low-income people. This program announcement covers the grant authority found at Section 681 of the Act, as amended by the Community Opportunities, Accountability, and Training and Educational Services Act of 1998 (Pub. L. 105-285). The Act authorizes the Secretary to award grants on a competitive basis to eligible agencies for non-profit, faith-based, community-based, local, statewide, and national programs (1) to coordinate private and public food assistance resources, wherever the grant recipient involved determines such coordination to be inadequate, to better serve low-income populations; (2) to assist low-income communities to identify potential sponsors of child nutrition programs and to initiate such programs in underserved or unserved areas; and (3) to develop innovative approaches at the State and local level to meet the nutrition needs of low-income individuals.

3. The Cooperative Agreement

This announcement uses a cooperative agreement as the vehicle for funding the nationwide initiative. A cooperative agreement is an assistance instrument for which substantial involvement is anticipated between the awarding office and the recipient during performance of the funded activity. Substantial involvement may include collaboration or participation by the designated awarding office staff in activities specified in the award and, as appropriate, decision-making at specified milestones related to performance. Potential types of substantial involvement under a cooperative agreement include, but are not limited to, collaborating in the design of a research protocol or a training or service delivery model; approving research protocols or analytical approaches or approving the initiation of a subsequent phase in a phased activity; training project staff in participating organizations; assisting in the evaluation of potential contractors; participating in the presentation of research results, including co-authorship of papers; or providing other assistance in program management or technical performance.

ACF/OCS and the recipient will each be responsible for particular duties and responsibilities throughout the project.

Responsibilities of ACF/OCS:

• Throughout the term of the cooperative agreement, provide the time and expertise of ACF/OCS to help the applicant implement the goals and objectives of the project. Specifically, ACF/OCS will organize periodic consultations and teleconferences to review planned activities, to share information, and to promote nationwide coordination;

• Provide to the applicant a complete list of current Community Food and Nutrition Program (CFNP) grantees;

• Organize a 2-3 day meeting in Washington, DC to discuss and finalize the major goals and objectives of the overall project and the fiscal year work plan, to exchange program information, and to share information on strategies for achieving the goals and objectives of the project;

• Review and comment on quarterly progress reports and other relevant materials prior to their finalization;

• Make available to the applicant program information and/or products from ACF/OCS activities that are available and relevant to the project;

• Promote the involvement of the applicant in meetings, conferences, and other initiatives to strengthen its knowledge and resource base for providing effective assistance to ACF/OCS and CFNP grantees;

• Provide consultation to the grantee with regard to the development of the work plan approaches to address problems that arise, and identification of areas needing technical assistance;

• Consult with and provide the grantee the data collection requirements of ACF/OCS, and keep the grantee informed of policy developments as they affect the implementation of the project;

• Provide timely review, comment and decisions on significant project documents;

• Work together to address issues or problems with regard to the grantee's ability to carry out the full range of activities included in the approved application in the most efficient and effective manner; and

• Promptly review written requests for approval of deviations from the project description or approved budget. Any changes that affect the terms and conditions of the grant award or revisions/amendments to the cooperative agreement or to the approved scope of activities will require prior written approval by the ACF Grants Management Officer.

Responsibilities of the Grantee:

• In collaboration with ACF/OCS, design, coordinate, and implement the project;

• Attend a 2-3 day meeting in Washington, DC to discuss and finalize the major goals and objectives of the overall project and the fiscal year work plan, exchange and share information on strategies for achieving the goals and objectives of the project;

• Establish subordinate objectives to guide the focus of their research based upon the needs assessed in the major objectives;

• Develop a CFNP database for use and maintenance by ACF/OCS;

• Implement activities described in the approved project description;

• Develop and implement work plans that will ensure that the services and activities included in the approved application address the goals and objectives of the approved project in an efficient, effective and timely manner;

• Submit regular semi-annual Financial Status (Standard Form 269) and progress reports that describe activities including, at a minimum, (a) information about the actions taken to implement the proposed project, and (b) the proposed plan for outcomes measurement and program evaluation of the activities supported with Federal funds;

• Work cooperatively and collaborately with ACF officials, other Federal agency officials conducting related activities, and other entities or organizations contracted by ACF to assist in carrying out the purposes of the Community Food and Nutrition Program; such cooperation and collaboration shall include, but not be limited to, providing requested financial and programmatic information, creating opportunities for interviews with agency officials and staff, and allowing on-site observation of activities supported under the cooperative agreement;

• Notify the Community Food and Nutrition Project Officer if revisions are needed to the cooperative agreement; and

• Consult with the Office of Community Services Project Officer in implementing the activities on an ongoing and frequent basis during each phase of the project.

4. Definition of Terms

The following definitions apply:

Budget Period

The interval of time into which a grant period of assistance (project period) is divided for budgetary and funding purposes.

Cooperative Agreement

An award instrument of financial assistance when substantial involvement is anticipated between the awarding agency of the Federal Government and the recipient during performance of the contemplated project. Substantial involvement may include collaboration or participation by the designated awarding office staff in activities specified in the award and, as appropriate, decision-making at specified milestones related to performance. The involvement may range from joint conduct of a project to awarding office approval prior to the recipient's undertaking the next phase of a project.

Eligible Entity

Public and private non-profit agencies, including organizations benefiting Indians and migrant and seasonal farm workers. Faith-based organizations and community-based organizations are eligible to apply for this Community Food and Nutrition Program grant.

Indian Tribe

A tribe, band, or other organized group of Native American Indians recognized in the State or States in which it resides, or considered by the Secretary of the Interior to be an Indian tribe or an Indian organization.

Innovative Project

One that departs from, or significantly modifies, past program practices and tests a new approach.

Migrant Farm Worker

An individual who works in agricultural employment of a seasonal or other temporary nature who is required to be absent from his/her place of permanent residence in order to secure such employment.

Non-profit Organization

Refers to an organization, including a faith-based or community-based organization, which meets the requirement for proof of non-profit status in the III. Eligibility Information 3. Other section of this announcement and has demonstrated experience in providing training to individuals and organizations on methods of effectively addressing the needs of low-income families and communities.

Poverty Income Guidelines

Guidelines published annually by the U.S. Department of Health and Human Services (HHS). HHS establishes the level of poverty defined as low-income for individuals and their families. The guideline information is posted on the Internet at the following address: http://www.aspe.hhs.gov/poverty.

Seasonal Farm Worker

Any individual employed in agricultural work of a seasonal or other temporary nature who is able to remain at his/her place of permanent residence while employed.

Project Period

The total time for which a project is approved for support, including any approved extensions.

Self-Sufficiency

A condition where an individual or family does not need, and is not eligible to receive, TANF assistance under Title I of the Personal Responsibility and Work Opportunity Reconciliation Act of 1996 (Part A of Title IV of the Social Security Act.)

Underserved Area

(As it pertains to child nutrition programs) A locality in which less than one-half of the low-income children eligible for assistance participate in any child nutrition program.

5. Other

Mobilization of Resources—There is no match requirement for the Community Food and Nutrition Program. However, ACF/OCS would like to mobilize as many resources as possible to enhance this nationwide initiative. The lack of a cost share or match will not affect application responsiveness or screening, review or scoring, or selection for funding.

Administrative Costs/Indirect Costs—There is no predetermined administrative cost ceiling for projects funded under this program. Indirect costs consistent with approved indirect cost rate agreements are allowable. Applicants should enclose a copy of the current approved rate agreement. However, it should be understood that indirect costs are part of, and not in addition to, the amount of funds awarded in the subject grant.

Multiple Submittals—There is no limit to the number of applications that can be submitted by an eligible applicant as long as each application is for a different project. However, no applicant will receive more than one grant.

Repeat Grantee—Applicants receiving ACF/OCS funds for CFNP projects completed within the last five years must submit with the application an abstract for each such project. The abstract should include the applicant's name, address, CFNP grant number and amount, the title of the project, and a summary of accomplishments.

Priority Area 1

Description

The Community Food and Nutrition Program—Nationwide Initiative is a national research project to study the impact of current CFNP projects on low-income communities, families, and children nationwide. The applicant selected to manage the Nationwide Initiative will be responsible for performing this task in coordination with the Office of Community Services.

II. Award Information

Funding Instrument Type: Cooperative Agreement.

Federal Substantial Involvement With Cooperative Agreement: This announcement uses a cooperative agreement as the vehicle for funding the nationwide initiative. A cooperative agreement is an assistance instrument for which substantial involvement is anticipated between the awarding office and the recipient during performance of the funded activity. Substantial involvement may include collaboration or participation by the designated awarding office staff in activities specified in the award and, as appropriate, decision-making at specified milestones related to performance. Potential types of substantial involvement under a cooperative agreement include, but are not limited to, collaborating in the design of a research protocol or a training or service delivery model; approving research protocols or analytical approaches or approving the initiation of a subsequent phase in a phased activity; training project staff in participating organizations; assisting in the evaluation of potential contractors; participating in the presentation of research results, including co-authorship of papers; or providing other assistance in program management or technical performance.

ACF/OCS and the recipient will each be responsible for particular duties and responsibilities throughout the project.

Responsibilities of ACF/OCS:

• Throughout the term of the cooperative agreement, provide the time and expertise of ACF/OCS to help the applicant implement the goals and objectives of the project. Specifically, ACF/OCS will organize periodic consultations and teleconferences to review planned activities, to share information, and to promote nationwide coordination;

• Provide to the applicant a complete list of current Community Food and Nutrition Program (CFNP) grantees;

• Organize a 2-3 day meeting in Washington, DC to discuss and finalize the major goals and objectives of the overall project and the fiscal year work plan, to exchange program information, and to share information on strategies for achieving the goals and objectives of the project;

• Review and comment on quarterly progress reports and other relevant materials prior to their finalization;

• Make available to the applicant program information and/or products from ACF/OCS activities that are available and relevant to the project;

• Promote the involvement of the applicant in meetings, conferences, and other initiatives to strengthen its knowledge and resource base for providing effective assistance to ACF/OCS and CFNP grantees;

• Provide consultation to the grantee with regard to the development of the work plan approaches to address problems that arise, and identification of areas needing technical assistance;

• Consult with and provide the grantee the data collection requirements of ACF/OCS, and keep the grantee informed of policy developments as they affect the implementation of the project;

• Provide timely review, comment and decisions on significant project documents;

• Work together to address issues or problems with regard to the grantee's ability to carry out the full range of activities included in the approved application in the most efficient and effective manner; and

• Promptly review written requests for approval of deviations from the project description or approved budget. Any changes that affect the terms and conditions of the grant award or revisions/amendments to the cooperative agreement or to the approved scope of activities will require prior written approval by the ACF Grants Management Officer.

Responsibilities of the Grantee:

• In collaboration with ACF/OCS, design, coordinate, and implement the project;

• Attend a 2-3 day meeting in Washington, DC to discuss and finalize the major goals and objectives of the overall project and the fiscal year work plan, exchange and share information on strategies for achieving the goals and objectives of the project;

• Establish subordinate objectives to guide the focus of their research based upon the needs assessed in the major objectives;

• Develop a CFNP database for use and maintenance by ACF/OCS;

• Implement activities described in the approved project description;

• Develop and implement work plans that will ensure that the services and activities included in the approved application address the goals and objectives of the approved project in an efficient, effective and timely manner;

• Submit regular semi-annual Financial Status (Standard Form 269) and progress reports that describe activities including, at a minimum, (a) information about the actions taken to implement the proposed project, and (b) the proposed plan for outcomes measurement and program evaluation of the activities supported with Federal funds;

• Work cooperatively and collaborately with ACF officials, other Federal agency officials conducting related activities, and other entities or organizations contracted by ACF to assist in carrying out the purposes of the Community Food and Nutrition Program; such cooperation and collaboration shall include, but not be limited to, providing requested financial and programmatic information, creating opportunities for interviews with agency officials and staff, and allowing on-site observation of activities supported under the cooperative agreement;

• Notify the Community Food and Nutrition Project Officer if revisions are needed to the cooperative agreement; and

• Consult with the Office of Community Services Project Officer in implementing the activities on an ongoing and frequent basis during each phase of the project.

Anticipated Total Priority Area Funding: $236,019.

Anticipated Number of Awards: 1.

Ceiling on Amount of Individual Awards Per Budget Period: $236,019.

An application that exceeds the upper value of the dollar range specified will be considered non-responsive.

Average Projected Award Amount Per Budget Period: $236,019.

Length of Project Periods: 36-month project with three 12-month budget periods.

III. Eligibility Information

1. Eligible Applicants

Non-profits having a 501(c)(3) status with the IRS, public agencies, other than institutions of higher education; Non-profits that do not have a 501(c)(3) status with the IRS, public agencies, other than institutions of higher education; and State, county and local public agencies.

Additional Information on Eligibility:

Faith-based and community-based organizations are eligible to apply.

2. Cost Sharing/Matching

No. There is no match requirement for the Community Food and Nutrition Program. However, OCS would like to mobilize as many resources as possible to enhance this nationwide initiative. While OCS supports and encourages applications submitted by applicants whose programs include a voluntary cost share, either cash or third party in-kind, the presence or level of a proposed voluntary cost share or match will not affect application responsiveness or screening, review or scoring, or selection for funding.

3. Other

All applicants must have a Dun & Bradstreet number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status.

Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrue to any private shareholders or individuals.

• A certified copy of the organization's certificate of incorporation or similar document that clearly establishes non-profit status.

• Any of the items in the subparagraphs immediately above for a State or national parent organization and a statement signed by the parent organization that the applicant organization is a local non-profit affiliate.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Disqualification Factors

Applications that exceed the ceiling amount will be considered non-responsive and will not be considered for funding under this announcement.

Any application that fails to satisfy the deadline requirements referenced in Section IV.3 will be considered non-responsive and will not be considered for funding under this announcement.

IV. Application and Submission Information

1. Address To Request Application Package

Catherine Beck, Administration for Children and Families, Office of Community Services' Operations Center, 1515 Wilson Boulevard, Suite 100, Arlington, VA 22209, Phone: 202-401-9352, Fax: 703-528-0716, e-mail: OCSGRANTS@acf.hhs.gov; URL: http://www.lcgnet.com.

2. Content and Form of Application Submission

Application Content—An original and two copies of each application are required. Each application must include the following components:

• Table of Contents. The Table of Contents must include page numbers.

• Abstract of the Proposed Project. Very brief, not to exceed 250 words. The abstract should be suitable for use in an announcement that the application has been selected for a grant award and that identifies the type of project, the target population and the major elements of the work plan

• Completed Standard Form 424. Must be signed by an official of the organization applying for the grant who has authority to obligate the organization legally.

• Standard Form 424A. Budget Information-Non-Construction Programs.

• Narrative Budget Justification. Justify each object class category required under Section B, Standard Form 424A. Applicants have the option of omitting from the application copies (not the original) of specific salary rates or amounts for individuals specified in the application budget.

• Project Narrative. A narrative that addresses issues described in Section V of this announcement, “Application Review Information.”

Application Format—Submit application materials on white 8½ x 11 inch paper only. Do not use colored, oversized or folded materials. Please do not include organizational brochures or other promotional materials, slides, films, clips, etc. The font size may be no smaller than 12 pitch and the margins must be at least one inch on all sides. Number all application pages sequentially throughout the package, beginning with the abstract of the proposed project as page number one. Please present application materials either in loose-leaf notebooks or in folders with pages two-hole punched at the top center and fastened separately with a slide paper fastener.

Page Limitation—The application package including sections for the Table of Contents, Project Abstract, Project and Budget Narratives must not exceed 45 pages. The page limitation does not include the following attachments and appendices: Standard Forms for Assurances, Certifications, Disclosures and appendices. The page limitation also does not apply to any supplemental documents as required in this announcement.

Required Standard Forms—Applicants requesting financial assistance for a non-construction project must sign and return Standard Form 424B, Assurances: Non-Construction Programs with their applications. Applicants must provide a Certification Regarding Lobbying. Prior to receiving an award in excess of $100,000, applicants shall furnish an executed copy of the lobbying certification. Applicants must sign and return the certification with their application. Applicants must make the appropriate certification of their compliance with the requirements of the Pro-Children Act of 1994 as outlined in Certification Regarding Environmental Tobacco Smoke.

You may submit your application to us in either electronic or paper format.

To submit an application electronically, please use the http://www.Grants.gov/Apply site. If you use Grants.gov, you will be able to download a copy of the application package, complete it off-line, and then upload and submit the application via the Grants.gov site. ACF will not accept grant applications via e-mail or facsimile transmission.

Please note the following if you plan to submit your application electronically via Grants.gov:

• Electronic submission is voluntary, but strongly encouraged.

• When you enter the Grants.gov site, you will find information about submitting an application electronically through the site, as well as the hours of operation. We strongly recommend that you do not wait until the application deadline date to begin the application process through Grants.gov.

• To use Grants.gov, you, as the applicant, must have a DUNS number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

Applicants who are submitting their application in paper format should submit an original and two copies of the complete application. The original and each of the two copies must include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Standard Forms and Certifications:

The project description should include all the information requirements described in the specific evaluation criteria outlined in the program announcement under Section V Application Review Information. In addition to the project description, the applicant needs to complete all the standard forms required for making applications for awards under this announcement.

Applicants seeking financial assistance under this announcement must file the Standard Form SF 424, Application for Federal Assistance; SF 424A, Budget Information—Non-Construction Programs; SF 424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand that they will be held accountable for the smoking prohibition included within Pub. L. 103-227, Title XII Environmental Tobacco Smoke (also known as the PRO-KIDS Act of 1994). A copy of the Federal Register notice that implements the smoking prohibition is included with forms. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Please see Section V.1. Criteria, for instructions on preparing the full project description.

3. Submission Dates and Times

Due Date for Applications: August 5, 2005.

Explanation of Due Dates:

The closing time and date for receipt of applications is referenced above. Applications received after 4:30 p.m. eastern time on the closing date will be classified as late.

Deadline: Applications shall be considered as meeting an announced deadline if they are received on or before the deadline time and date referenced in Section IV.6. Applicants are responsible for ensuring applications are mailed or submitted electronically well in advance of the application due date.

Applications hand carried by applicants, applicant couriers, other representatives of the applicant, or by overnight/express mail couriers shall be considered as meeting an announced deadline if they are received on or before the deadline date, between the hours of 8 a.m. and 4:30 p.m., eastern time, at the address referenced in Section IV.6., between Monday and Friday (excluding Federal holidays).

ACF cannot accommodate transmission of applications by facsimile. Therefore, applications transmitted to ACF by fax will not be accepted regardless of date or time of submission and time of receipt.

Receipt acknowledgement for application packages will not be provided to applicants who submit their package via mail, courier services, or by hand delivery. Applicants will receive an electronic acknowledgement for applications that are submitted via Grants.gov.

Late Applications: Applications that do not meet the criteria above are considered late applications. ACF shall notify each late applicant that its application will not be considered in the current competition.

Any application received after 4:30 p.m. eastern time on the deadline date will not be considered for competition.

Applicants using express/overnight mail services should allow two working days prior to the deadline date for receipt of applications. Applicants are cautioned that express/overnight mail services do not always deliver as agreed.

Extension of deadlines: ACF may extend application deadlines when circumstances such as acts of God (floods, hurricanes, etc.) occur, or when there are widespread disruptions of mail service, or in other rare cases. A determination to extend or waive deadline requirements rests with the Chief Grants Management Officer.

Checklist:

You may use the checklist below as a guide when preparing your application package.

What to submit | Required content | Required form or format | When to submit
Table of Contents | See Section IV | the “Application Format” section of this announcement. | By application due date.
Project Abstract | See Section IV | the “Application Format” section of this announcement. | By application due date.
Project Narrative | See Section IV | the “Application Format” section of this announcement. | By application due date.
SF424 | See Section IV | http://www.acf.hhs.gov/programs/ofs/forms.htm | By application due date.
SF424A | See Section IV | http://www.acf.hhs.gov/programs/ofs/forms.htm | By application due date.
Assurances and Certifications | See Section IV | http://www.acf.hhs.gov/programs/ofs/forms.htm | By application due date.
Certification Regarding Lobbying | See Section IV | http://www.acf.hhs.gov/programs/ofs/forms.htm | By application due date.
Certification Regarding Environmental Tobacco Smoke | See Section IV | http://www.acf.hhs.gov/programs/ofs/forms.htm | By application due date.

Additional Forms:

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

What to submit | Required content | Location | When to submit
Survey for Private, Non-Profit Grant Applicants | See form | May be found on http://www.acf.hhs.gov/programs/ofs/forms.htm | By application due date.

4. Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a. Under 45 CFR 100.8(a)(2).

A SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Office of Grants Management, Division of Discretionary Grants, 370 L'Enfant Promenade, SW., Aerospace Building, Washington, DC 20447-0002.

Although the remaining jurisdictions have chosen not to participate in the process, entities that meet the eligibility requirements of the program are still eligible to apply for a grant even if a State, Territory, Commonwealth, etc. does not have a SPOC. Therefore, applicants from these jurisdictions, or for projects administered by federally-recognized Indian Tribes, need take no action in regard to E.O. 12372.

The official list, including addresses, of the jurisdictions that have elected to participate in E.O. 12372 can be found on the following URL: http://www.whitehouse.gov/omb/grants/spoc.html.

A list of Single Points of Contact for each State and Territory is included with the application materials for this announcement.

5. Funding Restrictions

SF 424, SF 424A, and SF 424B—The application must contain a signed Standard Form 424, Application for Federal Assistance (SF 424), a Standard Form 424A Budget Information (SF 424A) and signed Standard Form 424B Assurance—Non-Construction Programs (SF 424B) completed according to instructions provided in this Program Announcement.

Proof of Non-Profit Status—For non-profit organizations, the application must contain documentation of the applicant's tax-exempt status as indicated in Section III of this announcement, Eligible Applicants.

Project Narrative—The application must include a project narrative that addresses issues described in Section V of this announcement.

Sub-Contracting or Delegating Projects—ACF/OCS will not fund any project where the role of the applicant is primarily to serve as a conduit for funds to organizations other than the applicant. The applicant must have a substantive role in the implementation of the project for which funding is requested. This prohibition does not bar the making of sub-grants or sub-contracting for specific services or activities to conduct the project.

Number of Projects in Application—Each application may include only one proposed project.

Page Limitation—The application package including sections for the Table of Contents, Project Abstract, Project and Budget Narratives must not exceed 45 pages. The page limitation does not include the following attachments and appendices: Standard Forms for Assurances, Certifications, Disclosures and appendices. The page limitation also does not apply to any supplemental documents as required in this announcement.

Maximum Grant Amount—An application that exceeds the ceiling on the amount of the award, will be considered non-responsive and be returned to the applicant without further review.

6. Other Submission Requirements

Submission by Mail: An applicant must provide an original application with all attachments, signed by an authorized representative and two copies. The application must be received at the address below by 4:30 p.m. eastern time on or before the closing date. Applications should be mailed to: Administration for Children and Families, Office of Community Services' Operations Center, 1515 Wilson Boulevard, Suite 100, Arlington, VA 22209, Attention: Catherine Beck.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to: Administration for Children and Families, Office of Community Services' Operations Center, 1515 Wilson Boulevard, Suite 100, Arlington, VA 22209; Attention: Catherine Beck.

Electronic Submission: http://www.Grants.gov Please see section IV. 2 Content and Form of Application Submission, for guidelines and requirements when submitting applications electronically.

V. Application Review Information

The Paperwork Reduction Act of 1995 (Pub. L. 104-13)

Public reporting burden for this collection of information is estimated to average 25 hours per response, including the time for reviewing instructions, gathering and maintaining the data needed and reviewing the collection information.

The project description is approved under OMB control number 0970-0139 which expires April 30, 2007.

An agency may not conduct or sponsor, and a person is not required to respond to, a collection of information unless it displays a currently valid OMB control number.

1. Criteria

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix. Pages should be numbered and a table of contents should be included for easy reference.

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Additional Information

Following are requests for additional information that need to be included in the application:

Staff and Position Data

Provide a biographical sketch and job description for each key person appointed. Job descriptions for each vacant key position should be included as well. As new key staff is appointed, biographical sketches will also be required.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application.

The non-profit agency can accomplish this by providing: (a) A reference to the applicant organization's listing in the Internal Revenue Service's (IRS) most recent list of tax-exempt organizations described in the IRS Code; (b) a copy of a currently valid IRS tax exemption certificate; (c) a statement from a State taxing body, State attorney general, or other appropriate State official certifying that the applicant organization has a non-profit status and that none of the net earnings accrue to any private shareholders or individuals; (d) a certified copy of the organization's certificate of incorporation or similar document that clearly establishes non-profit status; (e) any of the items immediately above for a State or national parent organization and a statement signed by the parent organization that the applicant organization is a local non-profit affiliate.

Letters of Support

Provide statements from community, public and commercial leaders that support the project proposed for funding. All submissions should be included in the application OR by application deadline.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

General

Use the following guidelines for preparing the budget and budget justification. Both Federal and non-Federal resources shall be detailed and justified in the budget and narrative justification. “Federal resources” refers only to the ACF grant for which you are applying. “Non-Federal resources” are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those that belong under other categories such as equipment, supplies, construction, etc. Include third party evaluation contracts (if applicable) and contracts with secondary recipient organizations, including delegate agencies and specific project(s) or businesses to be financed by the applicant.

Justification: Demonstrate that all procurement transactions will be conducted in a manner to provide, to the maximum extent practical, open and free competition. Recipients and subrecipients, other than States that are required to use 45 CFR Part 92 procedures, must justify any anticipated procurement action that is expected to be awarded without competition and exceed the simplified acquisition threshold fixed at 41 U.S.C. 403(11) (currently set at $100,000).

Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Non-Federal Resources

Description: Amounts of non-Federal resources that will be used to support the project as identified in Block 15 of the SF-424.

Justification: The firm commitment of these resources must be documented and submitted with the application so the applicant is given credit in the review process. A detailed budget must be prepared for each funding source.

Evaluation Criteria:

The following evaluation criteria appear in weighted descending order. The corresponding score values indicate the relative importance that ACF places on each evaluation criterion; however, applicants need not develop their applications precisely according to the order presented. Application components may be organized such that a reviewer will be able to follow a seamless and logical flow of information (e.g., from a broad overview of the project to more detailed information about how it will be conducted).

In considering how applicants will carry out the responsibilities addressed under this announcement, competing applications for financial assistance will be reviewed and evaluated against the following criteria:

Organizational Profiles 45 Points

(a) Organizational Experience in Program Area (20 Points)

The application will be evaluated on the extent to which it documents the organization's capability and relevant experience in developing and operating a nationwide program that deals with problems similar to those to be addressed by the proposed project. Documentation provided should indicate that projects previously undertaken have been relevant and effective and have provided permanent benefits. Organizations proposing training and technical assistance should have detailed competence in the program area and expertise in training and technical assistance. If applicable, information provided in these applications should also address related achievements and competence of each cooperating or sponsoring organization.

(b) Management History (0-10Points)

The application will be evaluated on the extent to which it demonstrates the applicant's ability to implement sound and effective management practices. If the applicant has been a recipient of other Federal or governmental grants, it must also document its compliance with financial and program progress reporting and audit requirements. Such documentation may be in the form of references to any available audit or progress reports and should be accompanied by a statement from a Certified or Licensed Public Accountant as to the sufficiency of the applicant's financial management system to protect adequately any Federal funds awarded under the application submitted.

(c) Staff Skills, Resources and Responsibilities (0-15 Points)

The application will be evaluated on the extent to which it adequately describes the experience and skills of the proposed Project Director, showing that the individual is not only well qualified, but that his/her professional capabilities are relevant to successfully implementing the project. If the key staff person has not yet been identified, the application should contain a comprehensive position description indicating that the responsibilities to be assigned to the Project Director are relevant to successfully implementing the project. The application must indicate that it has adequate facilities and resources (i.e. space and equipment) to carry out the work plan successfully. In addressing the above criterion, the applicant must clearly show that sufficient time of the Project Director and other senior staff will be budgeted to assure timely project implementation and oversight and that the assigned responsibilities of the staff are appropriate to the tasks identified.

Objectives and Need for Assistance 25 Points

(a) Description of Target Population (0-10 Points)

The application will be evaluated on the extent to which it describes the target area and population to be served.

(b) Analysis of Needs/Priorities (0-15 Points)

The application will be evaluated on the extent to which it discusses the nature and extent of the nationwide youth overweight and obesity problem, including specific information on low-income and minority population youth.

Approach 15 Points

(a) Realistic Quarterly Time Lines (0-5 Points)

The application will be evaluated on the extent to which it provides realistic quarterly projections of the activities to be carried out.

(b) Detailed Work Plan (0-10 Points)

The application will be evaluated on the extent to which it ensures that activities are adequately described and appear reasonably likely to achieve results that will have a desired impact on the identified problem(s).

Budget and Budget Justification 10 Points

Every application must include a Budget Justification, placed after the budget forms SF 424 and 424A, explaining the sources and uses of project funds. The budget is adequate and administrative costs are appropriate to the services proposed.

Results or Benefits Expected 5 Points

Identify the results and benefits to be derived from the proposed project.

2. Review and Selection Process

No grant award will be made under this announcement on the basis of an incomplete application.

Initial ACF/OCS Screening—Each application submitted to ACF/OCS will be screened to determine whether it was received by the closing date and time.

Applications received by the closing date and time will be screened for completeness and conformity with the following requirements.

All applications must comply with the following requirements except as noted:

• The application must contain a signed Standard Form 424 Application for Federal Assistance “SF 424,” a Standard Form 424-A Budget Information “SF 424A” and signed Standard Form 424B Assurance—Non-Construction Programs “SF 424B” completed according to instructions provided in this Program Announcement. The forms SF 424 and the SF 424B must be signed by an official of the organization applying for the grant who has authority to obligate the organization legally. The applicant's legal name as required on the SF 424 (Item 5) must match that listed as corresponding to the Employer Identification Number (Item 6).

• The application must include a project narrative that meets the requirements set forth in this announcement at Section V.

• The application must contain documentation of the applicant's tax-exempt status as indicated in Section III of this announcement, Eligibility Information.

• The application package including sections for the Table of Contents, Project Abstract, Project and Budget Narratives must not exceed 45 pages. The page limitation does not include the following attachments and appendices: Standard Forms for Assurances, Certifications, Disclosures and appendices. The page limitation also does not apply to any supplemental documents as required in this announcement.

• Private, non-profit organizations are encouraged to submit with their applications the optional survey located under “Grants Related Documents and Forms,” “Survey for Private, Non-Profit Grant Applicants,” titled, “Survey on Ensuring Equal Opportunity for Applicants,” at: http://www.acf.hhs.gov/programs/ofs/forms.htm.

ACF/OCS Evaluation of Applications—Applications that pass the initial ACF/OCS screening will be reviewed and rated by a panel based on the program elements and review criteria presented in relevant sections of this program announcement.

The review criteria are designed to enable the review panel to assess the quality of a proposed project and determine the likelihood of its success. The criteria are closely related to each other and are considered as a whole in judging the overall quality of an application.

The review panel awards points only to applications that are responsive to the program elements and relevant review criteria within the context of this program announcement.

The ACF/OCS Director and program staff use the reviewer scores when considering competing applications. Reviewer scores will weigh heavily in funding decisions, but will not be the only factors considered.

Applications generally will be considered in order of the average scores assigned by the review panel. Because other important factors are taken into consideration, highly ranked applications are not guaranteed funding. These other considerations include, for example: the timely and proper completion by the applicant of projects funded with ACF/OCS funds granted in the last five (5) years; comments of reviewers and government officials; staff evaluation and input; amount and duration of the grant requested and the proposed project's consistency and harmony with ACF/OCS goals and policies; geographic distribution of applications; previous program performance of applicants; compliance with grant terms under previous HHS grants; audit reports; investigative reports; and applicant's progress in resolving any final audit disallowance on previous ACF/OCS or other Federal agency grants.

Since ACF will be using non-Federal reviewers in the review process, applicants have the option of omitting from the application copies (not the original) specific salary rates or amounts for individuals specified in the application budget.

Approved but Unfunded Applications.

Applications that are approved but unfunded may be held over for funding in the next funding cycle, pending the availability of funds, for a period not to exceed one year.

3. Anticipated Announcement and Award Dates

Announcements and awards will be issued no later than September 30, 2005.

VI. Award Administration Information

1. Award Notices

The successful applicants will be notified through the issuance of a Financial Assistance Award document, which sets forth the amount of funds granted, the terms and conditions of the grant, the effective date of the grant, the budget period for which initial support will be given, the non-Federal share to be provided, and the total project period for which support is contemplated. The Financial Assistance Award will be signed by the Grants Officer and transmitted via postal mail.

Organizations whose applications will not be funded will be notified in writing.

2. Administrative and National Policy Requirements

Grantees are subject to the requirements in 45 CFR Part 74 (non-governmental) or 45 CFR Part 92 (governmental); 45 CFR Part 1050.

Direct Federal grants, subaward funds, or contracts under this Program shall not be used to support inherently religious activities such as religious instruction, worship, or proselytization. Therefore, organizations must take steps to separate, in time or location, their inherently religious activities from the services funded under this Program. Regulations pertaining to the prohibition of Federal funds for inherently religious activities can be found on the HHS Web site at: http://www.os.dhhs.gov/fbci/waisgate21.pdf.

3. Reporting Requirements

Program Progress Reports: Semi-Annually.

Financial Reports: Semi-Annually.

Grantees will be required to submit program progress and financial reports (SF 269) throughout the project period. Program progress and financial reports are due 30 days after the reporting period. In addition, final programmatic and financial reports are due 90 days after the close of the project period.

VII. Agency Contacts

Program Office Contact: Catherine Beck, Administration for Children and Families, Office of Community Services' Operations Center, 1515 Wilson Boulevard, Suite 100, Arlington, VA 22209, phone: 202-401-9352, Fax: 703-528-0716; e-mail: OCSGRANTS@acf.hhs.gov.

Grants Management Office Contact: Barbara Ziegler-Johnson, Administration for Children and Families, Office of Grants Management, Division of Discretionary Grants, 370 L'Enfant Promenade, SW., Aerospace Building, Washington, DC 20447-0002, phone: 202-401-4646, Fax: 703-528-0716; e-mail: OCSGRANTS@acf.hhs.gov.

VIII. Other Information

Notice: Beginning with FY 2006, the Administration for Children and Families (ACF) will no longer publish grant announcements in the Federal Register. Beginning October 1, 2005 applicants will be able to find a synopsis of all ACF grant opportunities and apply electronically for opportunities via: http://www.Grants.gov. Applicants will also be able to find the complete text of all ACF grant announcements on the ACF Web site located at: http://www.acf.hhs.gov/grants/index.html.

The FY 2006 President's budget does not include or propose funding for the Food and Nutrition Program. Future funding is based on the availability of Federal funds.

Please reference Section IV.3 for details about acknowledgement of received applications.

Dated: May 26, 2005.
Josephine B. Robinson,
Director, Office of Community Services.

[FR Doc. 05-11192 Filed 6-3-05; 8:45 am]

BILLING CODE 4184-01-P